DEPARTMENT OF COMMERCE

International Trade Administration

[A-428-849]

Common Alloy Aluminum Sheet From Germany: Final Results of Antidumping Duty Administrative Review; 2020-2022

AGENCY: Enforcement and Compliance, International Trade Administration, Department of Commerce.

SUMMARY: The U.S. Department of Commerce (Commerce) determines that the respondents under review sold common alloy aluminum sheet (CAAS) from Germany in the United States at less than normal value (NV) during the period of review (POR), October 15, 2020, through March 31, 2022.

DATES: Applicable November 13, 2023.

FOR FURTHER INFORMATION CONTACT: Drew Jackson or Jonathan Hill, AD/CVD Operations, Office IV, Enforcement and Compliance, International Trade Administration, U.S. Department of Commerce, 1401 Constitution Avenue NW, Washington, DC 20230; telephone: (202) 482-4406 or (202) 482-3518, respectively.

SUPPLEMENTARY INFORMATION:

Background

On May 10, 2023, Commerce published notice of the Preliminary Results of this review in the Federal Register and invited interested parties to comment on those results.¹ For details regarding the events that occurred subsequent to publication of Preliminary Results, see the Issues and Decision Memorandum.²

¹ See Common Alloy Aluminum Sheet from Germany: Preliminary Results of Antidumping Duty Administrative Review; 2020-2022, 88 FR 30087 (May 10, 2023) (Preliminary Results), and accompanying Preliminary Decision Memorandum (PDM).

² See Memorandum, “Issues and Decision Memorandum for the Final Results of the Administrative Review of the Antidumping Duty Order on Common Alloy Aluminum Sheet from Germany; 2020-2022,” dated concurrently with, and hereby adopted by, this notice (Issues and Decision Memorandum).

Commerce conducted this administrative review in accordance with section 751(a)(1)(B) of the Tariff Act of 1930, as amended (the Act).

Scope of the Order ³

³ See Common Alloy Aluminum Sheet from Bahrain, Brazil, Croatia, Egypt, Germany, India, Indonesia, Italy, Oman, Romania, Serbia, Slovenia, South Africa, Spain, Taiwan, and the Republic of Turkey: Antidumping Duty Orders, 86 FR 22139 (April 27, 2021) (Order).

The product covered by the Order is common alloy aluminum sheet from Germany. Common alloy sheet is currently classifiable under Harmonized Tariff Schedule of the United States (HTSUS) subheadings 7606.11.3060, 7606.11.6000, 7606.12.3096, 7606.12.6000, 7606.91.3095, 7606.91.6095, 7606.92.3035, and 7606.92.6095. Further, merchandise that falls within the scope of the Order may also be entered into the United States under HTSUS subheadings 7606.11.3030, 7606.12.3015, 7606.12.3025, 7606.12.3035, 7606.12.3091, 7606.91.3055, 7606.91.6055, 7606.92.3025, 7606.92.6055, 7607.11.9090. Although the HTSUS subheadings are provided for convenience and customs purposes, the written description of the scope of the Order is dispositive.

For a complete description of the scope, see the Issues and Decision Memorandum.

Analysis of Comments Received

We addressed all issues raised in the case and rebuttal briefs in the Issues and Decision Memorandum. A list of the issues that parties raised, and to which we responded in the Issues and Decision Memorandum, is attached as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our review of the record and comments received from interested parties regarding the Preliminary Results, we made certain changes to our margin calculations for Novelis Deutschland GmbH (Novelis) and Speira GmbH (Speira) (which is the successor-in-interest to Hydro Aluminium Rolled Products GmbH (HARP)) which also changed the weighted-average dumping margin assigned to the non-individually examined company under review, Constellium Rolled Products Singen GmbH & Co. KG. (Constellium). For a discussion of these changes, see the Issues and Decision Memorandum.

Successor-in-Interest Determination

In the Preliminary Results, Commerce determined that Speira is the successor-in-interest to HARP.⁴ No party commented on this issue, and we have received no information that contradicts our preliminary finding. Therefore, we continue to find that Speira is the successor-in-interest to HARP.

⁴ See Preliminary Results, 88 FR at 30087 and accompanying PDM at 4-5.

Rates for Companies Not Selected for Individual Examination

The statute and Commerce's regulations do not address the appropriate dumping margin to apply to respondents that were not selected for individual examination when Commerce limits its examination in an administrative review pursuant to section 777A(c)(2) of the Act. Generally, Commerce looks to section 735(c)(5) of the Act, which provides instructions for calculating the all-others rate in an investigation, for guidance when calculating the weighted-average dumping margin for respondents that were not individually examined in an administrative review.

Section 735(c)(5)(A) of the Act provides that the all-others rate should be calculated by weight averaging the weighted-average dumping margins determined for individually-examined respondents, excluding rates that are zero, de minimis, or based entirely on facts available. When the rates determined for individually examined respondents are all zero, de minimis, or based entirely on facts available, section 735(c)(5)(B) of the Act provides that Commerce may use “any reasonable method” to establish the all-others rate.

The final weighted-average dumping margins that we calculated for the mandatory respondents Novelis and Speira are not zero, de minimis, or based entirely on facts available. Therefore, we assigned a weighted-average dumping margin to the non-individually examined respondent Constellium that is equal to the weighted average of the weighted-average dumping margins that we calculated for Novelis and Speira, consistent with the guidance in section 735(c)(5)(A) of the Act. We weighted Novelis and Speira's weighted-average dumping margins based on the publicly ranged value of their sales.⁵

⁵ See Memorandum “Calculation of the Weighted-Average Dumping Margin for the Company Not Selected for Individual Examination” dated concurrently with this notice.

Final Results of Review

We are assigning the following estimated weighted-average dumping margins to the firms listed below for the period October 15, 2020, through March 31, 2022:

Producer or exporter | Weighted-average dumping margin (percent)
Novelis Deutschland GmbH | 16.42
Speira GmbH (successor-in-interest to Hydro Aluminium Rolled Products GmbH) | 16.69
Review-Specific Rate Applicable to the Following Non-Examined Company:
Constellium Rolled Products Singen GmbH & Co. KG | 16.51

Disclosure

Commerce intends to disclose to parties to the proceeding the calculations performed for these final results of review within five days of the date of publication of this notice in the Federal Register, in accordance with 19 CFR 351.224(b).

Assessment Rate

Pursuant to section 751(a)(2)(C) of the Act and 19 CFR 351.212(b), Commerce will determine, and U.S. Customs and Border Protection (CBP) shall assess, antidumping duties on all appropriate entries of subject merchandise covered by the final results of this review. Commerce intends to issue assessment instructions to CBP no earlier than 35 days after the date of publication date of the final results of this review in the Federal Register. If a timely summons is filed at the U.S. Court of International Trade, the assessment instructions will direct CBP not to liquidate relevant entries until the time for parties to file a request for a statutory injunction has expired (i.e., within 90 days of publication).

Where the respondent reported reliable entered values, we calculated importer-specific ad valorem assessment rates by aggregating the amount of dumping calculated for all U.S. sales to the importer and dividing this amount by the total entered value of the merchandise sold to the importer.⁶ Where the respondent did not report reliable entered values, we calculated importer-specific per-unit assessment rates by dividing the total amount of dumping calculated for all reviewed U.S. sales to the importer by the total quantity of those sales. We also calculated an estimated ad valorem importer-specific assessment rate to determine whether the per-unit assessment rate is de minimis (i.e., 0.50 percent or less).⁷ Where an importer-specific ad valorem assessment rate is not zero or de minimis, Commerce will instruct CBP to collect the appropriate duties at the time of liquidation. However, where an importer-specific ad valorem assessment rate is zero or de minimis, or a respondent's weighted-average dumping margin is zero or de minimis, Commerce will instruct CBP to liquidate appropriate entries without regard to antidumping duties.⁸

⁶ See 19 CFR 351.212(b)(1).

⁷ Id.

⁸ See 19 CFR 351.106(c)(2).

We will instruct CBP to apply an assessment rate to entries of subject merchandise from the non-individually examined company, Constellium, equal to the company's weighted-average dumping margin listed in the table in the “Final Results of Review” section above.

For entries that were not reported in the U.S. sales data submitted by Novelis, and Speira, but that were entered under their CBP 10-digit case numbers (i.e., their cash deposit rates were applied at the time of entry), Commerce will instruct CBP to liquidate such entries at the all-others rate if there is no rate for the intermediate company(ies) involved in the transaction.⁹

⁹ For a full discussion of this practice, see Antidumping and Countervailing Duty Proceedings: Assessment of Antidumping Duties, 68 FR 23954 (May 6, 2003).

Cash Deposit Requirements

The following cash deposit requirements will be effective for all shipments of the subject merchandise entered, or withdrawn from warehouse, for consumption on, or after, the date of publication of this notice in the Federal Register, as provided for by section 751(a)(2)(C) of the Act: (1) the cash deposit rate for the companies identified in the table in the “Final Results of Review” section above will be equal to the weighted-average dumping margin listed for the company in that table; (2) the cash deposit rate for an exporter not covered by this administrative, will continue to be the company's currently existing cash deposit rate; (3) if the exporter was not covered by this review or a completed segment of this proceeding, but the producer of the subject merchandise was covered, the cash deposit rate will be the producers' most recently established cash deposit rate; and (4) the cash deposit rate for all other producers or exporters will continue to be 49.40 percent, the cash deposit rate established in the investigation of this proceeding.¹⁰

¹⁰ See Order, 86 FR at 22142.

These cash deposit requirements, when imposed, shall remain in effect until further notice.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Order (APO)

This notice also serves as a final reminder to parties subject to APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing these final results of administrative review and publishing this notice in accordance with sections 751(a)(1) and 777(i)(1) of the Act, and 19 CFR 351.221(b)(5) and 19 CFR 351.213(h)(2).

Dated: November 3, 2023.
Abdelali Elouaradia,
Deputy Assistant Secretary for Enforcement and Compliance.

Appendix

List of Topics Discussed in the Issues and Decision Memorandum

I. Summary

II. Background

III. Scope of the Order

IV. Changes Since the Preliminary Results of Review

V. Discussion of the Issues

General Issues

Comment 1: Whether Commerce Should Revise its Draft Customs Instructions

Novelis

Comment 2: Whether Commerce Made Certain Ministerial Errors

Comment 3: Whether Commerce Should Include Certain Quarterly Billing Adjustments in its Calculation of Net Home Market Prices Speira

Comment 4: Whether to Reduce Section 232 Duties Paid on Certain Sales by Claimed Reimbursements

Comment 5: Whether Commerce Improperly Excluded Certain U.S. Sales from the Margin Calculations

Comment 6: Whether Commerce Double Counted Merchandise Processing and Harbor Maintenance Fees for Certain Sales

VI. Recommendation

[FR Doc. 2023-24928 Filed 11-9-23; 8:45 am]

BILLING CODE 3510-DS-P